DEPARTMENT OF COMMERCE

National Oceanic and Atmospheric Administration

Agency Information Collection Activities; Submission to the Office of Management and Budget (OMB) for Review and Approval; Comment Request; Recreational Angler Survey of Sea Turtle Interactions

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 30, 2024 during a 60-day comment period. This notice allows for an additional 30 days for public comments.

Agency: National Oceanic and Atmospheric Administration, Commerce.

Title: Recreational Angler Survey of Sea Turtle Interactions.

OMB Control Number: 0648-0774.

Form Number(s): None.

Type of Request: Regular Submission [Revision and Extension of a current information collection].

Number of Respondents: 6,667.

Average Hours per Response: 10 minutes for the Fishing Site Characterization Form, 5 minutes for the Survey Cover Sheet, 10 minutes for the Angler Intercept Survey.

Total Annual Burden Hours: 1,111 hours.

Needs and Uses: NOAA's National Marine Fisheries Service (NOAA Fisheries) proposes to revise and extend a current information collection designed to assess the extent of hook and line interactions between recreational anglers on piers and other shore-based fishing locations and sea turtles. The collection comprises an Angler Intercept Survey, a Fishing Site Characterization Form, and a Survey Cover Sheet. The Angler Intercept Survey will be verbally administered on piers and shore-based fishing locations within NOAA Fisheries Greater Atlantic Region and Southeast Region, and will be administered over three years' time to approximately 20,000 individual recreational Anglers (6,667 per year). The respondents will be verbally asked a series of questions about their fishing practices and observations of sea turtles and the interviewer will record their answers. The survey will also assess the feasibility of an intercept survey for this purpose in terms of response rates and data collection. The Fishing Site Characterization Form will be completed by the survey administrator at each fishing location who will also collect information on the structure and operation of the pier or shore-based fishing location. The survey administrator will complete the Site Characterization Sheet during each survey period and collect information on the environmental conditions for that particular day, the number of anglers fishing, number of lines in the water, and the number of surveys completed. The collection previously included a Sea Turtle Incidental Capture Form. This form will be removed from this collection and is now included in the National Sea Turtle Stranding & Salvage Network Stranding & Gear Interaction Data Collection (0648-0496).

Collection of data on sea turtle interactions in the shore-based recreational fishing sector is necessary to fulfill statutory requirements of the Endangered Species Act (16 U.S.C. 1531 et. seq.). This collection will allow NOAA Fisheries obtain specific information about recreational piers (defined here to include piers and other shore-based structures), the anglers that fish on piers, the nature of interactions between pier-based anglers and sea turtles, as well as to determine specific factors that may influence the rate of interactions. NOAA Fisheries can use the information collected to evaluate the impact of these interactions on sea turtle populations and determine conservation measures that can be implemented to reduce interactions and support the conservation and recovery of endangered and threatened sea turtle populations.

Affected Public: Individuals or households.

Frequency: Once.

Respondent's Obligation: Voluntary.

Legal Authority: Collection of these data on sea turtle interactions in the shore-based recreational fishing sector is necessary to fulfill statutory requirements of the Endangered Species Act (16 U.S.C. 1531 et. seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0774.

Sheleen Dumas,
Departmental PRA Clearance Officer, Office of the Under Secretary for Economic Affairs, Commerce Department.

[FR Doc. 2024-28501 Filed 12-4-24; 8:45 am]

BILLING CODE 3510-22-P